DEPARTMENT OF AGRICULTURE

Forest Service

Ochoco National Forest; Oregon; Ochoco Wild Horse Herd Management Plan Project

AGENCY: Forest Service, USDA.

ACTION: Withdrawal of notice of intent to prepare an environmental impact statement.

SUMMARY: The Ochoco National Forest is withdrawing the Notice of Intent (NOI) to prepare an Environmental Impact Statement (EIS) for the Ochoco Wild Horse Herd Management Plan. The original NOI was published in the Federal Register on June 21, 2017 (82 FR 28301). Upon preliminary evaluation, no potential significant impacts to the human environment are associated with the project. As a result, the Forest is withdrawing its intent to prepare an EIS and is now preparing an Environmental Assessment (EA). All comments previously received regarding this project will be retained and considered in the development of the EA. If it is determined that the project may have significant impacts, the EIS process will be reinitiated and a NOI will be published.

FOR FURTHER INFORMATION CONTACT: Questions concerning this notice and requests to be added to the project mailing list should be directed to Beth Peer, Ochoco National Forest Environmental Coordinator, 3160 NE 3rd Street, Prineville, Oregon 97754; Phone 541-416-6463. Individuals who have previously submitted comments on this project will remain on the project mailing list and do not need to contact the Forest.

Dated: May 30, 2019.
Gina Owens,
Acting Associate Deputy Chief, National Forest System.

[FR Doc. 2019-12741 Filed 6-14-19; 8:45 am]

BILLING CODE 3411-15-P